DEPARTMENT OF ENERGY

Federal Energy Regulatory Commission

[Project No. 14787-001]

Black Canyon Hydro, LLC; Notice of Intent To File License Application, Filing of Pre-Application Document, and Approving Use of the Traditional Licensing Process

a. Type of Filing: Notice of Intent to File License Application and Request to Use the Traditional Licensing Procedures.

b. Project No.: 14787-001.

c. Date Filed: April 20, 2020.

d. Submitted By: Black Canyon Hydro, LLC.

e. Name of Project: Seminoe Pumped Storage Project.

f. Location: On the North Platte River in Carbon County, near the town of Rawlins, Wyoming. The project would use the Bureau of Reclamation's Seminoe Reservoir as the lower reservoir and is partially located on 1,650.18 acres of Bureau of Land Management land.

g. Filed Pursuant to: 18 CFR 5.3 of the Commission's regulations.

h. Potential Applicant Contact: Matthew Shapiro, Chief Executive Officer, Black Canyon Hydro, LLC, 800 Main Street, Suite 1220, Boise, Idaho 83702; 208-246-9925; mshapiro@gridflexenergy.com.

i. Contact: Suzanne Novak at (202) 502-6665; or email at suzanne.novak@ferc.gov.

j. Black Canyon Hydro, LLC filed its request to use the Traditional Licensing Process on April 20, 2020. Black Canyon Hydro, LLC provided public notice of its request on April 18, 2020. In a letter dated June 2, 2020, the Director of the Division of Hydropower Licensing approved Black Canyon Hydro, LLC's request to use the Traditional Licensing Process.

k. With this notice, we are initiating informal consultation with: (a) The U.S. Fish and Wildlife Service under section 7 of the Endangered Species Act and the joint agency regulations thereunder at 50 CFR, Part 402; and (b) the Wyoming State Historic Preservation Officer, as required by section 106, National Historical Preservation Act, and the implementing regulations of the Advisory Council on Historic Preservation at 36 CFR 800.2.

l. With this notice, we are designating Black Canyon Hydro, LLC as the Commission's non-federal representative for carrying out informal consultation, pursuant to section 7 of the Endangered Species Act, and section 106 of the National Historic Preservation Act.

m. Black Canyon Hydro, LLC filed a Pre-Application Document (PAD; including a proposed process plan and schedule) with the Commission, pursuant to 18 CFR 5.6 of the Commission's regulations.

n. A copy of the PAD may be viewed on the Commission's website (http://www.ferc.gov), using the eLibrary link. Enter the docket number, excluding the last three digits in the docket number field to access the document. For assistance, contact FERC Online Support at FERCONlineSupport@ferc.gov or toll free at 1-866-208-3676, or for TTY, (202) 502-8659.

o. The applicant states its unequivocal intent to submit an application for an original license for Project No. 14787-001.

p. Register online at http://www.ferc.gov/docs-filing/esubscription.asp to be notified via email of new filing and issuances related to this or other pending projects. For assistance, contact FERC Online Support.

Dated: June 3, 2020.
Kimberly D. Bose,
Secretary.

[FR Doc. 2020-12441 Filed 6-8-20; 8:45 am]

BILLING CODE 6717-01-P